DEPARTMENT OF HEALTH AND HUMAN SERVICES

Administration for Community Living

Administration on Intellectual and Developmental Disabilities; Agency Information Collection Activities; Proposed Collection; Comment Request; Financial Status Reporting Form for State Councils on Developmental Disabilities

AGENCY: Administration for Community Living, Administration on Intellectual and Developmental Disabilities, HHS.

ACTION: Notice.

SUMMARY: For the program of the State Councils on Developmental Disabilities, funds are awarded to State agencies contingent on fiscal requirements in subtitle B of the Developmental Disabilities Assistance and Bill of rights Act. The SF-425, ordinarily mandated in the revised OMB Circular A-102, provides no accounting breakouts necessary for proper stewardship. Consequently, the proposed streamlined form will substitute for the SF-425 and will allow compliance monitoring and proactive compliance maintenance and technical assistance.

DATES: Submit written or electronic comments on the collection of information by August 23, 2012.

ADDRESSES: Submit electronic comments on the collection of information to: Carla.Thomas@acf.hhs.gov. Submit written comments on the collection of information to Carla Thomas, Administration on Intellectual and Developmental Disabilities, Administration on Community Living, Washington, DC 20447 or by fax at (202) 205-8037.

FOR FURTHER INFORMATION CONTACT: Jennifer Johnson at (202) 690-5982 or Carla.Thomas@acf.hhs.gov.

SUPPLEMENTARY INFORMATION: In compliance with 42 U.S.C. 1500 et seq. (the DD Act), ACL/AIDD has submitted the following proposed collection of information to OMB for review and clearance.

Annual Burden Estimates
Instrument | Number of respondents | Number of responses per respondent | Average burden hours per response | Total burden hours
Financial Status Reporting Form for State Councils on Developmental Disabilities Program | 55 | 3 | 5.10 | 841.5

Estimated Total Annual Burden Hours: 841.5.

Dated: July 19, 2012.
Kathy Greenlee,
Administrator & Assistant Secretary for Aging.

[FR Doc. 2012-18019 Filed 7-23-12; 8:45 am]

BILLING CODE 4154-01-P